DEPARTMENT OF JUSTICE

Antitrust Division

Notice Pursuant to the National Cooperative Research and Production Act of 1993—Robotics Technology Consortium, Inc.

Notice is hereby given that, on April 30, 2012, pursuant to Section 6(a) of the National Cooperative Research and Production Act of 1993, 15 U.S.C. 4301 et seq. (“the Act”), Robotics Technology Consortium, Inc. (“RTC”) has filed written notifications simultaneously with the Attorney General and the Federal Trade Commission disclosing changes in its membership. The notifications were filed for the purpose of extending the Act's provisions limiting the recovery of antitrust plaintiffs to actual damages under specified circumstances. Specifically, Baum Romstedt Technology Research Corp (BRTRC), Fairfax, VA; Dezudio, LLC, Pittsburgh, PA; Kairos Autonomi, Sandy, UT; Kicker Studio, LLC, San Francisco, CA; John H. Northrop & Associates, Inc., Burke, VA; Pratt & Miller Engineering, New Hudson, MI; and rChordata, LLC, Charlotte, NC, have been added as parties to this venture.

Also, Alliant Techsystems, Inc., Minneapolis, MN; American Android Corp., Princeton, NJ; API Defense, Inc., Windber, PA; ATI Industrial Automation, Apex, NC; BBN Technologies Corp., Cambridge, MA; BioRobots, LLC, Cleveland, OH; Defense Research Associates Inc., Beavercreek, OH; Elbit Systems of America, LLC, Ft. Worth, TX; Great Lakes Sound & Vibration, Inc. (GLSV), Houghton, MI; Integration Innovation Inc., Huntsville, AL; John H. Northrop & Associates, Inc., Burke, VA; Lithos Robotics Corporation, Amherst, NY; Mechatron Inc., Somerville, MA; Mercedes-Benz Research & Development North America, Inc., Palo Alto, CA; Oakland University, Rochester, MI; Robotics Research Corporation, Cincinnati, OH; Square One Systems Design, Inc., Jackson, WY; The Boeing Company, Seattle, WA; The George Washington University, Washington, DC; University of Southern California, Marina del Rey, CA; Valde Systems, Inc., Nashua, NH; and Virtus Advanced Sensors, Pittsburgh, PA, have withdrawn as parties from this venture.

No other changes have been made in either the membership or planned activity of the group research project. Membership in this group research project remains open, and RTC intends to file additional written notifications disclosing all changes in membership.

On October 15, 2009, RTC filed its original notification pursuant to Section 6(a) of the Act. The Department of Justice published a notice in the Federal Register pursuant to Section 6(b) of the Act on November 30, 2009 (74 FR 62599).

The last notification was filed with the Department on November 22, 2011. A notice was published in the Federal Register pursuant to Section 6(b) of the Act on December 21, 2011 (76 FR 79218).

Patricia A. Brink,
Director of Civil Enforcement, Antitrust Division.

[FR Doc. 2012-13992 Filed 6-7-12; 8:45 am]

BILLING CODE P